DEPARTMENT OF AGRICULTURE

Rural Utilities Service

7 CFR Part 1728

Specifications and Drawings for Underground Electric Distribution

AGENCY: Rural Utilities Service, USDA.

ACTION: Final rule; request for comments.

SUMMARY: The Rural Utilities Service (RUS), a Rural Development agency of the U.S. Department of Agriculture, is amending its regulations for electric standards and specifications in Bulletin 1728F-806 (D-806), “Specifications and Drawings for Underground Electric Distribution,” which is incorporated by reference, to digitize RUS accounting, clarify RUS requirements, update current standards and practices, and improve customer service. This bulletin contains complete specifications settings forth the RUS requirements for constructing rural underground electric distribution systems using state-of-the-art materials, equipment, and construction methods.

DATES: This rule is effective November 6, 2018.

Incorporation by Reference: The incorporation by reference of certain publications listed in this rule is approved by the Director of the Federal Register as of November 6, 2018.

Written comments must be received on or before December 6, 2018.

ADDRESSES: Submit comments by any of the following methods:

• Federal eRulemaking Portal: Go to http://www.regulations.gov and, in the lower “Search Regulations and Federal Actions” box, select “Rural Utilities Service” from the agency drop-down menu, then click on “Submit.” In the Docket ID column, select RUS-18-ELECTRIC-0006 to submit or view public comments and to view supporting and related materials available electronically. Information on using Regulations.gov, including instructions for accessing documents, submitting comments, and viewing the docket after the close of the comment period, is available through the site's “User Tips” link. Follow the online instructions for submitting comments.

• Mail: Addressed to Michele Brooks, Team Lead—Rural Development Innovation Center—Regulations Team, U.S. Department of Agriculture, 1400 Independence Ave. SW, Stop 1522, Room 1562, Washington, DC 20250-1522. Please state that your comment refers to Docket No. RUS-18-ELECTRIC-0006.

Instructions: All submissions received must include that agency name and the subject heading “Specifications and Drawings for Underground Electric Distribution.” All comments received must identify the name of the individual (and the name of the entity, if applicable) who is submitting the comment.

FOR FURTHER INFORMATION CONTACT: Mr. Trung V. Hiu, Electrical Engineer, Electric Staff Division, Distribution Branch, U.S. Department of Agriculture, Rural Utilities Service, Room 1262-S, 1400 Independence Avenue SW, Washington, DC 20250-1569. Telephone: (202) 720-1877. Fax: (202) 720-7491. Email: Trung.Hiu@usda.gov.

SUPPLEMENTARY INFORMATION:

Executive Order 12372

This final rule is excluded from the scope of Executive Order 12372, Intergovernmental Consultation, which may require consultation with State and local officials. A notice of final rule entitled “Department Programs and Activities Excluded from Executive Order 12372,” (50 FR 47034) exempted RUS loans and loan guarantees to from coverage under this order.

Executive Order 12866

This rule falls under the category of regulations, “Rural Electrification Administration (REA) rules concerning standards and specification for construction and materials,” and is exempted from the Office of Management and Budget (OMB) review for purposes of Executive Order 12866 and, therefore, has not been reviewed by OMB.

Executive Order 12988

This final rule has been reviewed under Executive Order 12988, Civil Justice Reform. RUS has determined that this rule meets the applicable standards provided in section 3 of the Executive Order. In addition, all state and local laws and regulations that are in conflict with this rule will be preempted, no retroactive effort will be given to this rule, and, in accordance with Sec. 212(e) of the Department of Agriculture Reorganization Act of 1994 (7 U.S.C. Sec. 6912(e)), administrative appeal procedures, if any, must be exhausted before an action against the Department or its agencies may be initiated.

Executive Order 13132, Federalism

The policies contained in this final rule do not have any substantial direct effect on states, on the relationship between the national government and the States, or on the distribution of power and responsibilities among the various levels of government. Nor does this rule impose substantial direct compliance costs on State and local governments. Therefore, consultation with states is not required.

Information Collection and Recordkeeping Requirements

This final rule contains no new reporting or recordkeeping burdens under OMB control number 0572-0131, 7 CFR part 1728, Electric Standards and Specifications for Materials and Construction, that would require approval under the Paperwork Reduction Act of 1995 (44 U.S.C. Chapter 35).

Executive Order 13371, Deregulatory Action

This final rule is not expected to be an Executive Order 13771 deregulatory action. This rule is expected to provide meaningful updates to assist with improving customer service.

Executive Order 13175, Consultation and Coordination With Indian Tribal

Governments

The Agency has determined that this final rule does not have a substantial direct effect on one or more Indian tribe(s) or on either the relationship or the distribution of powers and responsibilities between the Federal Government and Indian tribes. Thus, this final rule is not subject to the requirements of Executive Order 13175. Consequently, the Agency will not conduct tribal consultation sessions.

If a Tribe has questions about the Tribal Consultation process please contact Rural Development's Native American Coordinator at (720) 544-2911 or AIAN@wdc.usda.gov.

USDA Non-Discrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights in any program or activity conducted or funded by the Department. (Not all prohibited basis will apply to all programs and/or employment activities.) Remedies and complaint filing deadlines vary by program or incident.

Persons with disabilities who require alternative means of communication for program information (e.g., Braille, large print, audiotape, American Sign Language, etc.) should contact the responsible Agency or USDA's TARGET center at (202) 720-2600 (voice and TTY) or contact USDA through the Federal Relay Service at (800) 877-8339. Additionally, program information may be made available in languages other than English.

To file a program discrimination complaint, complete the USDA Program Discrimination Complaint Form (PDF), found online at http://www.ascr.usda.gov/complaint_filing_cust.html, or at any USDA office, or write a letter addressed to USDA and provide in the letter all of the information requested in the form. To request a copy of the complaint form, call (866) 632-9992 to request the form. Submit your completed complaint form or letter to USDA by: (1) Mail at U.S. Department of Agriculture, Office of Assistant Secretary for Civil Rights, 1400 Independence Avenue SW, Washington, DC 20250-9410, by Fax (202) 690-7442 or Email at program.intake@usda.gov.

USDA is an equal opportunity provider, employer, and lender.

Regulatory Flexibility Act Certification

It has been determined that the Regulatory Flexibility Act is not applicable to this final rule since the Rural Utilities Service is not required by 5 U.S.C. 551 et seq. or any other provision of the law to publish a notice of proposed rulemaking with request to the subject matter of this rule.

Catalog of Federal Domestic Assistance

The program described by this final rule is listed in the Catalog of Federal Domestic Assistance Programs under No. 10.850, Rural Electrification Loans and Loan Guarantees. This catalog is available on a subscription basis from the Superintendent of Documents, U.S. Government Printing Office, Washington, DC 20402-9325, telephone number (202) 512-1800.

Unfunded Mandates

This final rule contains no Federal Mandates (under the regulatory provision of title II of the Unfunded Mandates Reform Act of 1995 [2 U.S.C. Chapter 25]) for State, local, and tribal governments or the private sector. Thus, this proposed rule is not subject to the requirements of sections 202 and 205 of the Unfunded Mandates Reform Act of 1995.

E-Government Act Compliance

RUS is committed to the E-Government Act, which requires Government agencies in general to provide the public the option of submitting information or transacting business electronically to the maximum extent possible.

National Environmental Policy Act Certification

The Administrator of RUS has determined that this final rule will not significantly affect the quality of the human environment as defined by the National Environmental Policy Act of 1969 (42 U.S.C. 4321 et seq.). Therefore, this action does not require an environmental impact statement or assessment.

Background

Pursuant to the Rural Electrification Act of 1936, as amended (7 U.S.C. 901 et seq.), the Rural Utilities Service (RUS) is amending Title 7 CFR Chapter XVII, Part 1728, Electric Standards and Specifications for Materials and Construction, by making changes to 7 CFR 1728.97, Incorporation by reference of electric standards and specifications, RUS Bulletin 1728F-806 (D-806), “Specifications and Drawings for Underground Electric Distribution” (incorporation approved for 7 CFR 1728.98). These changes are necessary in order to digitize RUS accounting, clarify RUS requirements, update current standards and practices, and improve customer service.

RUS maintains a system of bulletins that contain construction standards and specifications for materials and equipment which must be complied when system facilities are constructed by RUS electric and telecommunications borrowers in accordance with the RUS loan contract. These standards and specifications contain standard construction units and material items and equipment units commonly used in RUS electric and telecommunications borrowers' systems. The bulletin listed below is incorporated by reference in 7 CFR 1728.97. The Director of the Federal Register approves the incorporations by reference in accordance with 5 U.S.C. 552(a) and 1 CFR part 51. A notice of any change in this material will be published in the Federal Register. Copies of this bulletin are available to the public at the following web address: https://www.rd.usda.gov/publications/regulations-guidelines/bulletins/electric.

The materials incorporated by reference may be inspected at the Rural Utilities Service, Stop 1520, Room 5820-S, Washington, DC 20250-1522, call (202) 720-8674. The RUS bulletin 1728F-806 (D-806) is available from the Rural Utilities Service, Room 1246 -S, U.S. Department of Agriculture, Washington, DC 20250. For information on the availability of this material, call (202) 720-8674.

The following is a summary of the changes that are included in this final rule:

1. For consistency with RUS policy and practices, the drawings are renumbered to reflect RUS other construction standards and specifications. This will allow the digitizing of accounting records.

2. To keep abreast with the industry practices and respond to the stakeholders interest, cable-in-conduit and outdoor lighting construction standard and specification are added. These practices are common industry wide but are not currently available from RUS.

3. To enforce this rule as a standard, the term “must” is replaced by “shall” throughout the rule where applicable.

4. As requested by the stakeholders, the term “borrower” is replaced by “owner” throughout the rule where applicable.

5. The high potential test is an obsolete practice and removed.

6. For 11 drawings, UA1 through UC2-2, cable riser shield is removed and separated into new UP unit.

7. For 5 drawings, UG6 through UG17-3, combinations of elbows, arresters, and connector blocks are added.

8. Due to obsolete practices, the following drawings are removed: UM3-44, UM3-45, UM3-46, UM5-6, UM5-6A, UM6-35, UM6-36, UM7-1, UM8-5, UM8-6, UM8-7, UM9-2, UM12, UM48-3, UM48-4, UX7.

9. Three new drawings for Single Phase Riser Pole Assembly Units, UA4, UA.G, and UA1.USG, are added.

10. Two new drawings for Two Phase Riser Pole Assembly Units, UB5 and UB6, are added.

11. Eight new drawings for Three Phase Riser Pole Assembly Units, UC3, UC4, UC5, UC7.1, UC7.3, UC7.4, UC8.1, and UC8.2, are added.

12. Six new drawings for Foundation and Assembly Units, UF.PBC, UF.PBN, UF3.BC, UF3.BN, UF3.PN, and UF3.VC, are added.

13. Five new drawings for Transformer Assembly Units, UG1.01, UG1.02, UG1.2, UG3.01, and UG3.02, are added.

14. Four new drawings for Grounding Assembly Units, UH2.0, UH2.2, UH2.7, and UH4.1G, are added.

15. Two new drawings for Secondary Assembly Units, UJ3.3 and UJ4.3, are added.

16. Three new drawings for Service Assembly Units, UK2.1, UK2.2, and UK4, are added.

17. Five new drawings for Miscellaneous Assembly Units, UM1.XX, UM3, UM6.JN6226, UM6.PKG, and UM6.RK, are added.

18. Two new drawings for Outdoor Lighting Assembly Units, UO1 and UO2, are added.

19. Eight new drawings for System Protection Assembly Units, UP7.04, UP7.B1, UP7.B2, UP7.B3, UP7.C, UP7.FC, UP7.UG, and UP8, are added.

20. A new drawing for Metering Assembly Units, UQG, is added.

21. A new drawing for Recloser Assembly Units, UR3, is added.

22. A new drawing for Sectionalizing Assembly Units, US1.DC, is added.

23. Four new drawings for Trench Assembly Units, UT2, UT3, UT4, and UT5, are added.

24. Four new drawings for Voltage Control Assembly Units, UY1.1XX, UY1.1.XXSW, UY3.2L, and UY3.3L, are added.

List of Subjects in 7 CFR Part 1728

Electric power, Incorporation by reference, Loan programs-energy, Rural areas.

Accordingly, for reasons set forth in the preamble, chapter XVII, title 7, the Code of Federal Regulations is amended as follows:

PART 1728—ELECTRIC STANDARDS AND SPECIFICATIONS FOR MATERIALS AND CONSTRUCTION

1. The authority citation for part 1728 continues to read as follows:

Authority: 7 U.S.C. 901 et seq., 1921 et seq., 6941 et seq.

2. Revise § 1728.97(a)(24) to read as follows:

§ 1728.97 Incorporation by reference of electric standards and specifications.

* * * * *

(a) * * *

(24) Bulletin 1728F-806 (D-806) Specifications and Drawings for Underground Electric Distribution, October 11, 2018, incorporation approved for § 1728.98.

* * * * *

3. Revise § 1728.98(a)(24) to read as follows:

§ 1728.98 Incorporation by reference of electric standards and specifications.

(a) * * *

(24) Bulletin 1728F-806 (D-806) Specifications and Drawings for Underground Electric Distribution), October 11, 2018.

* * * * *

Dated: October 31, 2018.
Christopher A. McLean,
Acting Administrator, Rural Utilities Service.

[FR Doc. 2018-24248 Filed 11-5-18; 8:45 am]

BILLING CODE ;P